DEPARTMENT OF TRANSPORTATION

Federal Aviation Administration

Environmental Impact Statement: Angoon Airport, Angoon, AK

AGENCY: Federal Aviation Administration (FAA), DOT.

ACTION: Notice of intent.

SUMMARY: The FAA announces that they will prepare an Environmental Impact Statement (EIS) to consider alternatives to and disclose the potential impacts of constructing a new land-based commercial airport near the City of Angoon. The FAA will hold public and agency scoping meetings to help identify substantive project concerns to be addressed in the EIS process. Cooperating agencies in this process include the United States Forest Service (USFS), and the United States Army Corps of Engineers (ACOE).

DATES: 1. October 27, 2008 in Anchorage, Alaska for agency scoping meeting.

2. October 27, 2008 in Anchorage, Alaska for public scoping meeting.

3. October 29, 2008 in Juneau, Alaska for agency scoping meeting.

4. October 29, 2008 in Juneau, Alaska for public scoping meeting.

5. October 31, 2008 in Angoon, Alaska for public scoping meeting.

6. November 10, 2008 close of scoping comment period.

Responsible Official: Leslie A. Grey, Environmental Protection Specialist AAL-614, Federal Aviation Administration, Alaskan Region, Airports Division, 222 W. 7th Avenue, #14, Anchorage, AK 99513-7587 Anchorage, AK 99513-7587, Telephone (907) 271-5453.

FOR FURTHER INFORMATION CONTACT: Leslie A. Grey, Environmental Protection Specialist AAL-614, Federal Aviation Administration, Alaskan Region, Airports Division, 222 W. 7th Avenue, #14, Anchorage, AK 99513-7587, Telephone (907) 271-5453, e-mail: comments@angoonairporteis.com.

Additional details regarding the project can be found on the project Web site at http://www.angoonairporteis.com.

Submit Written Comments, Send to: Leslie A. Grey, Environmental Protection Specialist AAL-614, Federal Aviation Administration, Alaskan Region, Airports Division, 222 W. 7th Avenue, #14, Anchorage, AK 99513-7587, Telephone (907) 271-5453, e-mail: comments@angoonairporteis.com.

SUPPLEMENTARY INFORMATION: The FAA will prepare an EIS to assess the proposed construction of a land-based airport in or near the community of Angoon. The Alaska Department of Transportation and Public Facilities' (DOT&PF) Airport Master Plan site submitted to the FAA for consideration would encompass approximately 270 acres and would include a single 3,300 foot runway (with the ability to be expanded to 4,000 feet in the future) and a 3.5 acre apron that would include areas for airport support facilities as needed. This airport would be similar in size and facilities to existing airports at Hoonah, AK and Kake, AK.

Because DOT&PF's proposed site is partially within Admiralty Island National Monument, the USFS has to make a decision on whether to grant and administer a Special Use Permit for airport operation on the Monument, or pursue some type of conveyance of the property to state ownership. To facilitate this process, the FAA has asked the USFS to be a cooperator in the EIS process to ensure that the EIS analysis and range of alternatives will meet the need of the USFS to make an informed decision.

Because jurisdictional waters of the United States occur within the proposed project area, it is possible that a 404(b)(1) permit application will also be required for the project. The FAA has also asked the ACOE to be a cooperator in this process because of the ACOE's jurisdictional authority over this resource.

To ensure that the full range of issues related to the proposed action are addressed and that all significant issues are identified, the FAA will coordinate and consult with the public; tribal governments; Federal, State, local agencies, and tribal corporations that have jurisdiction by law or have special expertise with respect to any environmental impacts associated with the proposed projects.

The agency scoping meetings will be held in Anchorage, Alaska on October 27, 2008 and in Juneau, Alaska on October 29, 2008. Public scoping meetings will be held in Anchorage, Alaska on October 27, 2008, in Juneau, Alaska on October 29, 2008 and in Angoon, Alaska on October 31, 2008. Notification of the public scoping meetings will be published on the project Web site (http://www.angoonairporteis.com), in the Juneau Empire, and in the Anchorage Daily News, and will be posted at the Community Center in Angoon.

In addition to providing input at the scoping meetings, the agencies and the public may submit written comments via the e-mail address comments@angoonairporteis.com or the address shown above under, “to Submit Written Comments, Send to.” Comments must be submitted by November 10, 2008.

Issued in Anchorage, Alaska, on September 17, 2008.
James W. Lomen,
Deputy Division Manager, FAA, Airports Division, AAL-601.

[FR Doc. E8-22475 Filed 9-23-08; 8:45 am]

BILLING CODE 4910-13-P